DEPARTMENT OF THE INTERIOR

Fish and Wildlife Service

[Docket No. FWS-HQ-IA-2017-0079; FF09A30000-190FXIA16710900000]

Conference of the Parties to the Convention on International Trade in Endangered Species of Wild Fauna and Flora (CITES); Eighteenth Regular Meeting; Tentative U.S. Negotiating Positions for Agenda Items and Species Proposals Submitted by Foreign Governments and the CITES Secretariat

AGENCY: Fish and Wildlife Service, Interior.

ACTION: Notice.

SUMMARY: The United States, as a Party to the Convention on International Trade in Endangered Species of Wild Fauna and Flora (CITES), will attend the eighteenth regular meeting of the Conference of the Parties to CITES (CoP18) in Geneva, Switzerland, August 17 to 28, 2019. This notice announces the availability of tentative U.S. negotiating positions on proposed resolutions, decisions, and amendments to the CITES Appendices (species proposals), as well as other agenda items that have been submitted by other Parties, the permanent CITES committees, and the CITES Secretariat for consideration at CoP18. With this notice we announce that we will publish a summary of our proposed negotiating positions and the reasons for our proposed positions on or before August 16, 2019, on our website at https://www.fws.gov/international/cites/cop18/index.html.

ADDRESSES: Information on tentative U.S. negotiating positions on amendments to the CITES Appendices (species proposals), draft resolutions and decisions, and agenda items submitted by other countries and the CITES Secretariat for consideration at CoP18 will be available on our website, https://www.fws.gov/international/cites/cop18/index.html, on or before August 16, 2019, and:

• Electronically using the Federal eRulemaking Portal: http://www.regulations.gov in Docket No. FWS-HQ-IA-2017-0079 (the docket number for this notice).

• By email request to: managementauthority@fws.gov; or

• By postal mail or in person, by appointment, between 8 a.m. and 4 p.m., Monday through Friday, except Federal holidays, at: U.S. Fish and Wildlife Service Headquarters, Division of Management Authority, 5275 Leesburg Pike, Falls Church, VA 22041-3803; telephone 703-358-2095.

FOR FURTHER INFORMATION CONTACT: For information pertaining to resolutions, decisions, and other agenda items, contact: Pamela Scruggs, Chief, Division of Management Authority; telephone 703-358-2095; facsimile 703-358-2298. For information pertaining to species proposals, contact: Rosemarie Gnam, Chief, Division of Scientific Authority; telephone 703-358-1708; facsimile 703-358-2276.

SUPPLEMENTARY INFORMATION:

Background

The Convention on International Trade in Endangered Species of Wild Fauna and Flora, hereinafter referred to as CITES or the Convention, is an international treaty designed to control and regulate international trade in certain animal and plant species that are now or potentially may become threatened with extinction. These species are listed in Appendices to CITES, which are available on the CITES Secretariat's website at http://www.cites.org/eng/app/index.php.

Currently 182 countries and the European Union have ratified, accepted, approved, or acceded to CITES; these 183 entities are known as Parties. The Convention calls for regular biennial meetings of the Conference of the Parties, unless the Conference of the Parties decides otherwise. At these meetings, the Parties review the implementation of CITES, make provisions enabling the CITES Secretariat in Switzerland to carry out its functions, consider amendments to the lists of species in Appendices I and II, consider reports presented by the Secretariat and the permanent CITES committees (Standing, Animals, and Plants Committees), and make recommendations for the improved effectiveness of CITES. Any country that is a Party to CITES may propose amendments to Appendices I and II, resolutions, decisions, and other agenda items for consideration by all of the Parties at the meetings.

This is our fifth in a series of Federal Register notices on the development of U.S. submissions and tentative negotiating positions for CoP18. In this notice, we announce the availability of tentative U.S. negotiating positions on species proposals, draft resolutions and decisions, and agenda items submitted by other Parties and the Secretariat for consideration at CoP18. The ADDRESSES section, above, explains how to obtain this information.

We published our first CoP18-related Federal Register notice on January 23, 2018 (83 FR 3179), in which we requested information and recommendations on species proposals for the United States to consider submitting for consideration at CoP18. In that notice, we also described the U.S. approach to preparations for CoP18. We published our second such Federal Register notice on March 12, 2018 (83 FR 10736), in which we requested information and recommendations on proposed resolutions, decisions, and other agenda items for the United States to consider submitting for consideration at CoP18, and provided preliminary information on how to request approved observer status for non-governmental organizations that wish to attend the meeting. In our third CoP18-related Federal Register notice, published on October 1, 2018 (83 FR 49421), we requested public comments and information on species proposals that the United States was considering submitting for consideration at CoP18. We also requested public comments and information on proposed resolutions, decisions, and other agenda items that the United States was considering submitting for consideration at CoP18, and provided more information on how to request approved observer status for non-governmental organizations that wish to attend the meeting. In our fourth CoP18-related Federal Register notice, published on March 6, 2019 (84 FR 8104), we announced the provisional agenda for CoP18, solicited comments on the items on the provisional agenda, and announced a public meeting on March 13, 2019.

A link to the complete list of those Federal Register notices, along with information on U.S. preparations for CoP18, can be found at https://www.fws.gov/international/cites/cop18/index.html. The notices and public comments received can be viewed at http://www.regulations.gov in Docket No. FWS-HQ-IA-2017-0079. You may obtain additional information on those Federal Register notices from the following sources: For further information on proposed resolutions, decisions, and other agenda items, contact the U.S. Fish and Wildlife Service, Division of Management Authority, 5275 Leesburg Pike, MS-IA, Falls Church, VA 22041; and for information on species proposals, contact the Division of Scientific Authority, 5275 Leesburg Pike, MS-IA, Falls Church, VA 22041. Our regulations governing this public process are found in title 50 of the Code of Federal Regulations (CFR) at 50 CFR 23.87. Pursuant to 50 CFR 23.87(a)(3)(iii), with this notice we are announcing that we will soon make available to the public a summary of our tentative negotiating positions on the items included on the CoP18 agenda and proposed amendments to the Appendices, and the reasons for our tentative positions. This information and the ways that we will make it available to the public are described in detail below under Tentative Negotiating Positions.

Announcement of Provisional Agenda for CoP18

The provisional agenda for CoP18 is currently available on the CITES Secretariat's website at https://cites.org/eng/cop/18/doc/index.php. The working documents associated with the items on the provisional agenda, including proposed resolutions, proposed decisions, and discussion documents, are also available on the Secretariat's website. To view the working document associated with a particular agenda item, access the provisional agenda at the above website, locate the particular agenda item, and click on the document link for that agenda item in the column entitled “Document.” The species proposals that will be considered at CoP18 are also available on the Secretariat's website. Proposals for amendment of Appendices I and II can be accessed at https://cites.org/eng/cop/18/prop/index.php.

Tentative Negotiating Positions

On or before August 16, 2019, we will post on http://www.regulations.gov (see Docket No. FWS-HQ-IA-2017-0079) and on our website (https://www.fws.gov/international/cites/cop18/index.html) a summary of our tentative negotiating positions on the items included on the CoP18 agenda and proposed amendments to the Appendices, and the reasons for our tentative positions. Documents submitted by the United States either alone or as a co-proponent for consideration by the Parties at CoP18 can be found on the Secretariat's website at: https://cites.org/eng/cop/18/doc/index.php. Those documents are: CoP18 Docs. 21.3, 40, and 94 and (co-sponsored with Sri Lanka) Docs. 66, 72, and 79. The United States is pleased to co-sponsor the following proposals to amend the CITES Appendices for CoP18: CoP18 Props. 2, 28, 37, 45, and (co-sponsored with Sri Lanka) Prop. 46. We will not provide any additional explanation of the U.S. negotiating positions for documents and proposals that the United States submitted. The introduction in the text of each of the documents the United States submitted contains a discussion of the background of the issue and the rationale for submitting the document.

New information that may become available prior to or at CoP18 could lead to modifications of tentative U.S. positions. The U.S. delegation will disclose changes in our negotiating positions and the explanations for those changes during public briefings at CoP18. Species proposals are considered pursuant to 50 CFR 23.89. The United States is concerned about the budgetary implications and workload burden that will be placed upon the Parties, the Committees, and the Secretariat, and intends to evaluate all proposed resolutions, decisions, and other agenda items for CoP18 in view of these concerns.

Available Information on CoP18

Information concerning the results of CoP18 will be available after the close of the meeting on the Secretariat's website at http://www.cites.org, or upon request from the Division of Management Authority (see FOR FURTHER INFORMATION CONTACT, above), or on our website (https://www.fws.gov/international/cites/cop18/index.html).

Author

The primary author of this notice is Monika T. Thiele, Division of Management Authority; under the authority of the U.S. Endangered Species Act of 1973, as amended (16 U.S.C. 1531 et seq.).

Dated: June 21, 2019.
Margaret E. Everson,
Principal Deputy Director, U.S. Fish and Wildlife Service, Exercising the Authority of the Director, U.S. Fish and Wildlife Service.

[FR Doc. 2019-16592 Filed 8-1-19; 8:45 am]

BILLING CODE 4333-15-P